DEPARTMENT OF HOMELAND SECURITY

Coast Guard

33 CFR Part 117

[CGD08-07-034]

Drawbridge Operation Regulations; Bonfouca Bayou, Slidell, LA

AGENCY: Coast Guard, DHS.

ACTION: Notice of temporary deviation from regulations; request for comments.

SUMMARY: The Commander, Eighth Coast Guard District, has issued a temporary deviation from the regulation governing the operation of the State Route 433 (S433) Bridge across Bonfouca Bayou, mile 7.0, at Slidell, St. Tammany Parish, Louisiana. This deviation will test a change to the drawbridge operation schedule to determine whether a permanent change to the schedule is needed.

DATES: This deviation is effective from November 9, 2007 through May 7, 2008 Comments must be received by January 8, 2008.

ADDRESSES: You may mail comments and related material to Commander (dpb), Eighth Coast Guard District, 500 Poydras Street, New Orleans, Louisiana 70130-3310. The Commander, Eighth Coast Guard District, Bridge Administration Branch maintains the public docket for this rulemaking. Comments and material received from the public, as well as documents indicated in this preamble as being available in the docket, will become part of this docket and will be available for inspection or copying at the Bridge Administration office between 7 a.m. and 3 p.m., Monday through Friday, except Federal holidays.

FOR FURTHER INFORMATION CONTACT: Phil Johnson, Bridge Administration Branch, telephone (504) 671-2128.

SUPPLEMENTARY INFORMATION:

Request for Comments

We encourage you to participate in evaluating this test schedule by submitting comments and related material. If you do so, please include your name and address, identify the docket number for this deviation [CGD08-07-034], indicate the specific section of this document to which each comment applies, and give the reason for each comment. Please submit all comments and related material in an unbound format, no larger than 8½ by 11 inches, suitable for copying. If you would like to know they reached us, please enclose a stamped, self-addressed postcard or envelope. We will consider all comments and material received during the comment period. Comments must be received by January 8, 2008.

Background and Purpose

The Louisiana Department of Transportation and Development has requested that the operating regulation of the S433 swing span bridge, located on Bonfouca Bayou at mile 7.0 in Slidell, St. Tammany Parish, Louisiana, be changed in order to make more efficient use of operating resources, while accommodating the flow of vehicular traffic at rush hour peaks. Currently, the draw of the S433 Bridge operates as follows:

(a) The draw need not open for passage of vessels from 7 a.m. to 8 a.m. and from 1:45 p.m. to 2:45 p.m., Monday through Friday except Federal holidays.

(b) The draw need open only on the hour and half-hour from 6 a.m. to 7 a.m. and from 3 p.m. to 6 p.m., Monday through Friday except Federal holidays.

(c) The draw shall open on signal from 9 p.m. to 5 a.m., if at least four hours notice is given to the Louisiana Department of Transportation and Development Security Service at (504) 375-0100.

(d) At all other times the draw shall open on signal.

This Temporary Deviation from Drawbridge Operating Regulations allows the bridge to operate as follows: The draw of the S433 Bridge, mile 7.0 at Slidell, shall open on signal, except that from 6 p.m. to 6 a.m., the draw shall open on signal if at least two hours notice is given. On Monday through Friday, except Federal holidays, the draw need not open for the passage of vessels from 7 a.m. to 8 a.m. and from 1:45 p.m. to 2:45 p.m.

A notice of proposed rule making [CGD08-07-33] is being issued in conjunction with this temporary deviation to obtain public comments. The Coast Guard will evaluate public comments from this temporary deviation and the above referenced notice of proposed rule making to determine if a permanent special drawbridge operating regulation is warranted.

In accordance with 33 CFR 117.35(e), the drawbridge must return to its regular operating schedule immediately at the end of the designated time period. This deviation from the operating regulations is authorized under 33 CFR 117.35.

Dated: October 29, 2007.
David M. Frank,
Bridge Administrator, Eighth Coast Guard District.

[FR Doc. E7-21885 Filed 11-8-07; 8:45 am]

BILLING CODE 4910-15-P